DEPARTMENT OF COMMERCE

National Oceanic and Atmospheric Administration

RIN 0648-XG089

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet April 5-11, 2018. The Pacific Council meeting will begin on Friday, April 6, 2018 at 9 a.m. Pacific Daylight Time (PDT), reconvening at 8 a.m. each day through Wednesday, April 11, 2018. All meetings are open to the public, except a closed session will be held from 8 a.m. to 9 a.m., Friday, April 6 to address litigation and personnel matters. The Pacific Council will meet as late as necessary each day to complete its scheduled business.

ADDRESSES: Meetings of the Pacific Council and its advisory entities will be held at the Sheraton Portland Airport Hotel, 8235 NE Airport Way, Portland, OR; telephone: (503) 281-2500.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The April 6-11, 2018 meeting of the Pacific Council will be streamed live on the internet. The broadcasts begin initially at 9 a.m. PDT Friday, April 6, 2018 and continue at 8 a.m. daily through Wednesday, April 11, 2018. Broadcasts end daily at 5 p.m. PDT or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the April Webinar ID, 530-089-227, and your email address. You can attend the webinar online using a computer, tablet, or smart phone, using the GoToMeeting application. It is recommended that you use a computer headset to listen to the meeting, but you may use your telephone for the audio-only portion of the meeting. The audio portion may be attended using a telephone by dialing the toll number 1-562-247-8321 (not a toll-free number), audio access code 240-052-611, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.4, Proposed Council Meeting Agenda, and will be in the advance April 2018 briefing materials and posted on the Pacific Council website at www.pcouncil.org no later than March 26, 2018.

A. Call to Order

1. Opening Remarks

2. Roll Call

3. Executive Director's Report

4. Approve Agenda

B. Open Comment Period

1. Comments on Non-Agenda Items

C. Coastal Pelagic Species Management

1. National Marine Fisheries Service Report

2. 2018 Exempted Fishing Permits (EFPs)—Final Approval

3. Acoustic Trawl Survey Methodology Review—Final Approval

4. Process for Review of Reference Points for Monitored Stocks

5. Pacific Sardine Assessment, Harvest Specifications, and Management Measures—Final Action

D. Habitat

1. Current Habitat Issues

E. Salmon Management

1. Tentative Adoption of 2018 Management Measures for Analysis

2. Clarify Council Direction on 2018 Management Measures

3. Methodology Review Preliminary Topic Selection

4. Further Direction on 2018 Management Measures

5. Final Action on 2018 Management Measures

F. Groundfish Management

1. National Marine Fisheries Service Report

2. Biennial Harvest Specifications for 2019-2020 Fisheries—Final Action

3. Essential Fish Habitat (EFH) and Rockfish Conservation Area (RCA) Amendment 28—Final Action—Part 1 and Part 2

4. Cost Recovery Report

5. Preliminary Preferred Management Measure Alternatives for 2019-2020 Fisheries

6. Inseason Adjustments—Final Action

G. Pacific Halibut Management

1. Incidental Catch Limits for 2018 Salmon Troll Fishery—Final Action

H. Administrative Matters

1. Legislative Matters

2. Membership Appointments and Council Operating Procedures

3. Future Council Meeting Agenda and Workload Planning

I. Enforcement

1. Annual U.S. Coast Guard Fishery Enforcement Report

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Monday, March 26, 2018.

Schedule of Ancillary Meetings

Day 1—Thursday, April 5, 2018

Coastal Pelagic Species Advisory Subpanel—8 a.m.

Coastal Pelagic Species Management Team—8 a.m.

Habitat Committee—8 a.m.

Salmon Advisory Subpanel—8 a.m.

Salmon Technical Team—8 a.m.

Scientific and Statistical Committee—8 a.m.

Model Evaluation Workgroup—10 a.m.

Legislative Committee—1 p.m.

Groundfish Management Team—1 p.m.

Tribal Policy Group—Ad Hoc

Tribal and Washington Technical Group—Ad Hoc

Day 2—Friday, April 6, 2018

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Habitat Committee—8 a.m.

Salmon Advisory Subpanel—8 a.m.

Salmon Technical Team—8 a.m.

Scientific and Statistical Committee—8 a.m.

Enforcement Consultants—3 p.m.

Tribal Policy Group—Ad Hoc

Tribal and Washington Technical Group—Ad Hoc

Day 3—Saturday, April 7, 2018

California State Delegation—7 a.m.

Oregon State Delegation—7 a.m.

Washington State Delegation—7 a.m.

Coastal Pelagic Species Advisory Subpanel—8 a.m.

Coastal Pelagic Species Management Team—8 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

Day 4—Sunday, April 8, 2018

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

Day 5—Monday, April 9, 2018

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

Day 6—Tuesday, April 10, 2018

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Tribal Policy Group—Ad Hoc

Tribal and Washington Technical Group—Ad Hoc

Enforcement Consultants—Ad Hoc

Day 7—Wednesday, April 11, 2018

California State Delegation—7 a.m.

Oregon State Delegation—7 a.m.

Washington State Delegation—7 a.m.

Salmon Technical Team—8 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: March 14, 2018.
Tracey L. Thompson,
Acting Deputy Director, Office of Sustainable Fisheries, National Marine Fisheries Service.

[FR Doc. 2018-05476 Filed 3-16-18; 8:45 am]

BILLING CODE 3510-22-P